DEPARTMENT OF TRANSPORTATION

Bureau of Transportation Statistics

[Docket No. BTS-99-5889]

Motor Carrier Financial and Operating Information; Requests for Exemptions From Public Release of Reports

AGENCY: Bureau of Transportation Statistics, DOT.

ACTION: Notice.

SUMMARY: Class I and Class II motor carriers of property and household goods are required to file annual and quarterly reports with the Bureau of Transportation Statistics (BTS). As provided by statute, carriers may request that their reports be withheld from public release. BTS is inviting comments on requests from several carriers, which had previously sought exemptions from public release and are now providing additional information or are requesting reconsideration of BTS's decision on their petitions.

DATES: Comments must be submitted by October 10, 2000.

ADDRESSES: Send comments to the DOT Dockets Management System. You may send them by mail or in person to the Docket Clerk, Docket No. BTS-99-5889, Department of Transportation, 400 Seventh Street, SW., Room PL-401, Washington, DC 20590. The Docket is open from 10 a.m. to 5 p.m., Monday through Friday, except federal holidays. If you wish to file comments using the Internet, you may use the DOT Dockets Management System website at http://dms.dot.gov. Please follow the instructions online for more information.

Comments should identify the docket number and be submitted in duplicate to the address listed above. Commenters wishing the Department to acknowledge receipt of their comments must submit with those comments a self-addressed stamped postcard on which the following statement is made: Comments on Docket BTS-99-5889. The Docket Clerk will date stamp the postcard and mail it back to the commenter.

FOR FURTHER INFORMATION CONTACT: David Mednick, K-1, Bureau of Transportation Statistics, 400 Seventh Street, SW., Washington, DC 20590; (202) 366-8871; fax: (202) 366-3640; e-mail: david.mednick@bts.gov.

Request for Comments

BTS invites comments on the following:

• Clarksville Refrigerated Lines, Inc.—Reply to Request for Additional Information.

• Drug Transport, Inc.—Request for Reconsideration and Reply to Request for More Information.

• Schneider Transport, Inc., Schneider Tank Lines, Inc., Schneider National Carriers, Inc., Schneider National Bulk Carriers, Inc., Schneider Specialized Carriers, Inc.—Supplemental Request for Reconsideration.

You must use the DOT Dockets Management System if you wish to comment on these documents. Please follow the instructions listed above under ADDRESSES. You can also use the Dockets Management System to read related background information, such as the carriers' original exemption requests, comments submitted in regards to their requests, and BTS's initial decisions.

Rick Kowalewski,
Deputy Director.

[FR Doc. 00-22984 Filed 9-6-00; 8:45 am]

BILLING CODE 4910-FE-P